DEPARTMENT OF ENERGY

Federal Energy Regulatory Commission

[Docket No. CP02-31-002]

Iroquois Gas Transmission System, L.P.; Notice of Filing

April 6, 2006.

Take notice that on March 29, 2006, Iroquois Gas Transmission System, L.P. (Iroquois), One Corporate Drive, Suite 600, Shelton, CT 06484-6211, filed an abbreviated application pursuant to section 7(c) of the Natural Gas Act (NGA) and part 157 of the Commission's Rules and Regulations, for an amendment to the certificate of public convenience and necessity issued in this proceeding on October 31, 2002. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Iroquois requests authority to modify certain facilities previously certificated in this docket and to construct limited additional facilities in order to provide 100,000 dekatherms per day (dth/d) of new firm transportation service to Consolidated Edison Company of New York, Inc. (Con Edison). Iroquois requests to: (1) Reduce the proposed size of the compressor unit, located in Brookfield, Connecticut, from 10,000 horsepower to 7,700 horsepower; (2) install new cooling facilities at Brookfield; and (3) install new cooling facilities at Iroquois's existing compressor station at Dover, New York. The estimated cost of these facilities is approximately $41,600,000. Iroquois also requests a predetermination that the costs associated with the project will receive rolled-in rate treatment to Iroquois's Eastchester rates in its first NGA section 4 rate proceeding to become effective after the in-service date for the proposed facilities. In order to meet Co Edison's requested November 1, 2007 in-service date, Iroquois proposes to commence construction by April, 2007.

Any questions regarding the application are to be directed to M. Lisanne Crowley, Troutman Sanders LLP, 401 9th Street, NW., Suite 1000, Washington, DC 20004-2134; phone number (202) 274-2814.

On November 30, 2005, the Commission staff granted Iroquois's request to utilize the National Environmental Policy Act (NEPA) Pre-Filing Process and assigned Docket No. PF06-6-000 to staff activities involving the Market Access Project. Now, as of the filing of this application on March 29, 2006, the NEPA Pre-Filing Process for this project has ended. From this time forward, this proceeding will be conducted in Docket No. CP02-31-002, as noted in the caption of this Notice.

Any person wishing to obtain legal status by becoming a party to the proceeding for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF06-6-000 are already on the Commission staff's environmental mailing list for the proceeding in the above dockets and may file additional comments on or before the below listed comment date. Environmental commenters will not be required to serve copies of filed documents on all other parties. However, environmental commentors are also not parties to the proceeding and will not receive copies of all documents filed by other parties or non-environmental documents issued by the Commission. Further, they will not have the right to seek court review of any final order by Commission in this proceeding.

Motions to intervene, protests and comments may be filed electronically via the Internet in lieu of paper, see, 18 CFR 385.2001(a)(1)(iii) and the instructions on the Commission's Web site under the “e-Filing” link. The Commission strongly encourages electronic filings.

Comment Date: 5 p.m. Eastern Time on April 27, 2006.

Magalie R. Salas,
Secretary.

[FR Doc. E6-5462 Filed 4-12-06; 8:45 am]

BILLING CODE 6717-01-P